CONSUMER PRODUCT SAFETY COMMISSION

Announcement of Carbon Monoxide Safety Poster Contest Under the America COMPETES Reauthorization Act of 2011

AGENCY: U.S. Consumer Product Safety Commission. ACTION: Notice

SUMMARY: To raise awareness of the dangers of carbon monoxide in the home, the Consumer Product Safety Commission (CPSC) announces a poster contest for children in grades six, seven, and eight under section 105 of the America COMPETES Reauthorization Act of 2011, 15 U.S.C. 3719 (America COMPETES Act).

DATES: Entries will be accepted from July 14, 2014 until 11:59 p.m. EDT on February 27, 2015. CPSC expects to complete judging on or about May 1, 2015 and will award prizes soon thereafter.

FOR FURTHER INFORMATION CONTACT: Patty Davis, Public Affairs Specialist, Consumer Product Safety Commission, 4330 East West Highway, Bethesda, MD 20814; telephone (301) 504-7601; pdavis@cpsc.gov, or visit www.cpsc.gov/COcontest.

SUPPLEMENTARY INFORMATION: CPSC is charged with protecting the public from unreasonable risks of injury or death from thousands of types of consumer products under the agency's jurisdiction. CPSC has issued more than 13,000 consumer product recalls since the agency's creation in 1973.

To raise awareness of the danger of carbon monoxide (CO) gas, CPSC will administer a nationwide CO safety poster contest to help alert consumers, and children in particular, to the dangers of CO in the home.

Contest Requirements and Rules

1. Subject of the Contest. A key mission of the CPSC is to empower consumers with safety information. This contest seeks to help raise awareness about the dangers of CO in the home.

Potential topics include:

• how to recognize CO exposure and CO exposure symptoms;

• facts about CO: you cannot see it or smell it;

• what steps to take to protect against CO poisoning; and

• how to install and test a CO alarm.

2. Eligibility. To be eligible to participate in CPSC's CO Poster Contest and win a prize, a contestant must:

• be an individual who is a citizen or permanent resident of the United States;

• be in, or about to enter, the sixth, seventh, or eighth grade at the time of submission;

• not be a federal employee acting in the scope of the employee's employment;

• not be a child of a CPSC employee;

• not submit more than one poster;

• provide a completed and signed Contest Submission and Parental Consent Form (available on: www.cpsc.gov/COcontest);

• have complied with all requirements of this Notice, the official contest rules posted at: www.cpsc.gov/COcontest/, and all requirements of the America COMPETES Act.

The rules in this Notice supplement the rules on the www.cpsc.gov/COcontest/ Web site. If there is a conflict between any requirement stated on www.cpsc.gov/COcontest/ and the provisions of this Notice, the provisions of this Notice will govern. Entries must comply with form, content, eligibility, and other requirements set forth in this Notice and on the www.cpsc.gov/COcontest/ Web site.

3. How to Enter. Contestants may submit entries between July 14, 2014 and February 27, 2015. Only one poster per contestant may be submitted; all entries must be received by CPSC not later than 11:59 p.m. EDT, February 27, 2015.

• Contestant must create the poster without assistance from others. The poster must not have been submitted to any prior CPSC poster contest or published previously. The poster must not contain any elements that violate a third party's copyright, trademark, or other intellectual property rights.

• Entries must consist of one piece of original artwork (poster) and a completed Contest Submission and Parental Consent Form submitted through the contest Web site at: www.cpsc.gov/COcontest. Uploaded files should be in the form of either a PDF or JPG, and each file must be no larger than one megabyte.

• Teachers are encouraged to submit poster entries for their students. However, to be eligible for a prize, each student must satisfy contest requirements, and each entry must include a completed and signed Contest Submission and Parental Consent Form.

• Once a poster is entered, a contestant cannot make any changes or alterations to the poster. CPSC expects to complete judging on or about May 1, 2015.

• CPSC will not consider contest entries on topics other than carbon monoxide (CO).

• By submitting an entry (including the completed and signed Contest Submission and Parental Consent Form) to the contest, the contestant and the contestant's parent or guardian agrees to be bound by the contest's Official Rules. This contest is a skills-based contest. Chance plays no part in the determination of winners.

• To maintain privacy, a contestant should not put his or her full name or any personal information on the poster. CPSC will remove any identifying information on the poster.

• Sending a poster and completed Contest Submission and Parental Consent Form by the deadline constitutes “registration to participate in the competition” required by Section 105(g)(1) of the America COMPETES Act.

4. Parent or Guardian's Consent. All contestants must submit a completed Contest Submission and Parental Consent Form. On the form, parents or guardians must provide CPSC:

• permission for the contestant to enter the contest;

• an agreement that the contestant will abide by the contest rules;

• contact information to notify the parent or guardian if the contestant wins a prize;

• permission to collect, use, or disclose the contestant/child's personal information in accordance with the contest rules and applicable laws, including information necessary to issue and report any prize payments.

5. Privacy. CPSC will collect, use, and disclose the information submitted in accordance with the Privacy Act and/or E-Government Act of 2002. Information is not collected for commercial marketing.

6. Children's Online Privacy. The safety and privacy of children is CPSC's priority. CPSC complies with the Children's Online Privacy Protection Act of 1998 (COPPA) and COPPA's accompanying regulations protecting the privacy of children using the Internet.

CPSC requires verifiable parental consent via a Contest Submission and Parental Consent Form for all contestants and requires this consent before CPSC collects, uses, or discloses personal information about children under the age of 13. CPSC requires contestants to disclose the minimum amount of personal information necessary to participate in the contest. To enter the contest, CPSC only requires contestants to provide a full name, grade in school, and state of residence. CPSC will obtain full contact information about the contestant's parent or guardian, not the child contestant; contact information includes the parent or guardian's full name, address, telephone number, and email address. CPSC requires contest winners to provide a Social Security number to process prize payments. CPSC will contact a contestant only through a parent or guardian.

CPSC uses the personal information about a contestant to administer the contest. After obtaining parental consent via a Contest Submission and Parental Consent Form, CPSC will publish the contestant's poster, along with the contestant's first name, grade level, and state of residence. CPSC does not permit contestants to make any additional information publicly available and will not publish personal information about contestants beyond the information described above.

CPSC maintains reasonable procedures to protect the confidentiality, security, and integrity of personal information collected from children, as described in CPSC's Systems of Records Notice, Privacy Impact Assessment, and agency policies and directives. CPSC only discloses personal information as required by applicable laws and regulations.

Questions about these privacy policies should be directed to Patty Davis, CPSC Office of Communications at: pdavis@cpsc.gov.

At any time, a parent or guardian may review or have deleted the contestant's personal information from CPSC records and may refuse to permit further collection or use of the contestant's information by contacting the contest administrator at: pdavis@cpsc.gov.

7. Prizes. CPSC will award:

• three 6th grade winners, a cash award of $500 each

• three 7th grade winners, a cash award of $500 each

• three 8th grade winners, a cash award of $500 each

• one winner, chosen by public vote on CPSC's Web site, a cash award of $500

• one grand prize winner picked from all winners, a cash award of $1,000.

One poster may win multiple prizes. Winners shall be responsible for paying any applicable federal, state, or local taxes. CPSC will pay prize money directly to the winner or winners. Each winner must provide CPSC with sufficient information to issue payments in accordance with CPSC fiscal policy and issue an Internal Revenue Service Form 1099. CPSC will not issue prize payments without sufficient information to issue payments in compliance with CPSC fiscal policy and federal law. Winners may not transfer, assign, or substitute any prize.

CPSC may print, reproduce, or display winning posters publicly in print, online on the CPSC's Web site, and online on other safety partners' Web sites.

8. Judges. The posters will be judged by a qualified panel selected by CPSC at CPSC's sole discretion. CPSC retains the right to add or remove judges at any time before the winners are announced. Contest judges may include people from outside CPSC, including individuals from the private sector. The panel of judges will select the winning posters based on the criteria identified below. Judges have the right to withdraw from judging the contest entries without advance notice.

Judges may not:

• have personal or financial interests in, or be an employee, officer, director, or agent of, any entity that is a registered contestant in this contest;

• have a familial or financial relationship with an individual who is a registered contestant; or

• have any matter pending before CPSC or represent anyone in any matter pending before CPSC.

Specific tasks related to the judging process may be delegated to CPSC employees or employees of a collaborating agency. Judges shall have the authority to disregard any minor error in an entry that does not create any substantial benefit or detriment to any contestant. Decisions made by the judges are final.

9. Judging Criteria.

• clarity of CO safety message

• visual appeal of poster

• design originality.

10. Contest Subject to Applicable Law. The contest is subject to all applicable federal laws and regulations. By submitting an entry to the contest, the contestant and the contestant's parent or guardian agrees to be bound by these Official Rules and administrative decisions, which are final and binding in all matters relating to the contest. Eligibility for a contest prize is contingent upon fulfilling all of the requirements of the Official Rules. The final award of prizes is contingent upon the availability of appropriations.

11. No CPSC Logo. The poster must not use CPSC's logo or official seal and must not claim federal government endorsement.

12. Copyright/Original Work. Each contestant, through the contestant's parent or guardian, represents and warrants that the contestant is the sole author and owner of the poster; that the poster is wholly original with the contestant; and that the poster does not infringe any copyright or any other rights of any third party of which the contestant is aware.

13. Intellectual Property. By entering a poster in the contest, each contestant and the contestant's parent or guardian grants to the CPSC an irrevocable, paid-up, royalty-free, nonexclusive worldwide and perpetual license to use, copy, distribute to the public, create derivative works from, link to, display publicly (on the Internet or otherwise), and grant sublicenses to the poster, indefinitely, starting on the date the poster is entered into the contest. All contestants will retain all other intellectual property rights over their posters.

14. Payment of Prizes, Use of Prize Money, and Post-Award Performance.

• Prize money will be paid after the announcement of the winners.

• CPSC will pay prize money directly to the winner or winners. Each winner must provide CPSC with sufficient information to issue payments in accordance with CPSC fiscal policy and issue an Internal Revenue Service Form 1099.

15. Verification of Contest Winners. All contestants must continue to comply with all terms and conditions of the Official Rules, and winning is contingent upon fulfilling all requirements contained in the Official Rules and this Notice. The parent or guardian of the winner(s) will be notified by email, telephone, or mail, after the date of the judging, using the information provided by the parent or guardian to CPSC. The end date for judging is an approximation and may change, depending on the number of entries. The contest winner(s) will be required to sign and return to CPSC, within ten (10) calendar days after the date that notice is sent, an Affidavit of Eligibility and Liability/Publicity Release (except where prohibited) to claim any prize or recognition. If a contest winner is disqualified for any reason, CPSC may award the applicable recognition and prize to an alternate winner selected by the judges from the remaining eligible entries.

16. Limitation of Liability. By submitting an entry to the contest, all contestants and parents or guardians of the contestants agree to, and thereby do, release, discharge, and hold harmless the government and its employees, agents, contractors, and representatives (except in the case of willful misconduct) from any claims, losses, and damages arising out of their participation in this contest or any contest-related activities and the acceptance and use, misuse, or possession of any prize awarded hereunder, including claims for injury, death, damage, or loss of property, revenue, or profits, whether direct, indirect, or consequential, arising from their participation in the contest, whether the injury, death, damage, or loss arises through negligence, or otherwise. Contestants will not be required to waive claims against CPSC that arise from the unauthorized use or disclosure by the agency of the intellectual property, trade secrets, or confidential information of the contestant. The contestant and his or her parent or guardian shall be liable for, and shall indemnify and hold harmless, the U.S. government against all actions or claims for loss of, or damage to, property resulting from the fault, negligence, or wrongful act or omission of the contestant.

17. Liability Insurance. Contestants will not be required to obtain liability insurance or demonstrate financial responsibility for claims by: (1) A third party for death, bodily injury, or property damage, or loss resulting from activity carried out in connection with the participation in the competition, with the federal government named as an additional insured under the registered contestant's insurance policy and registered contestants agreeing to indemnify the federal government against third party claims for damages arising from or related to competition activities; and (2) the federal government for damage or loss to government property resulting from such an activity.

18. Records Retention and Freedom of Information Act. All materials submitted as part of a contest entry (including the poster and the Contest Submission and Parental Consent Form) become CPSC records and will not be returned. No confidential information will be accepted with any contest entry. Contestants will be notified of any Freedom of Information Act requests for their contest entries in accordance with applicable law.

19. General Conditions. This contest is void where prohibited. Contestants agree that this contest shall be subject to, and governed by, the laws of the District of Columbia, and the forum for any dispute shall be in the District of Columbia, United States of America. To the extent permitted by law, the right to litigate, to seek injunctive relief, or to make any other recourse to judicial or any other procedure in case of disputes or claims resulting from, or in connection with this contest, are hereby excluded, and any contestant expressly waives any and all such rights. Certain restrictions may apply. CPSC, in consultation with the judges, reserves the right, in CPSC's discretion, not to make an award in one or more categories, based on factors such as quality, quantity, or nature of eligible entries. CPSC reserves the right to cancel, suspend, and/or modify the contest, or any part of the contest, for any reason, at CPSC's sole discretion.

All decisions by CPSC are final and binding in all matters related to the contest.

20. Procedures for obtaining additional information.

• During the period of the CO Safety Poster Contest, CPSC will respond to questions submitted to COcontest@cpsc.gov from potential contestants.

• CPSC employees will respond to all questions submitted to COcontest@cpsc.gov on an equitable basis. CPSC's responses to questions submitted to COcontest@cpsc.gov are not official guidance.

• CPSC will not permit any contestant to use federal facilities during the contest.

Authority: 15 U.S.C. 3719

Dated: July 8, 2014.
Todd A. Stevenson,
Secretary, Consumer Product Safety Commission.

[FR Doc. 2014-16204 Filed 7-10-14; 8:45 am]

BILLING CODE 6355-01-P